DEPARTMENT OF THE INTERIOR

Bureau of Land Management

[ES-930-1310-FI; LAES 51206]

Notice of Proposed Reinstatement of Terminated Oil and Gas Lease, Louisiana

AGENCY: Bureau of Land Management, Interior.

ACTION: Notice of reinstatement of terminated oil and gas lease.

SUMMARY: Under the provisions of Public Law 97-451, the Bureau of Land Management-Eastern States (BLM-ES) received a petition for reinstatement of oil and gas lease LAES 51206 from Rhumba Operating, LLC for lands in Caldwell Parish, Louisiana. The petition was filed on time and was accompanied by all the rentals due since the date the lease terminated under the law.

FOR FURTHER INFORMATION CONTACT: Robyn Shoop, Supervisory Land Law Examiner, BLM-ES, 7450 Boston Boulevard, Springfield, Virginia, at (703) 440-1512.

SUPPLEMENTARY INFORMATION: No valid lease has been issued affecting these lands. The lessee has agreed to the new lease terms for rental and royalties at rates of $10.00 per acre or fraction thereof, per year, and 16⅔ percent, respectively. The lessee has paid the required $500.00 administrative fee and $163.00 to reimburse the BLM for the cost of publishing this Notice in the Federal Register. The lessee has met all the requirements for reinstatement as set out in sections 31(d) and (e) of the Mineral Leasing Act of 1920 (30 U.S.C. 188), and the BLM is proposing to reinstate the lease effective December 1, 2006, under the original terms and conditions of the lease and the increased rental and royalty rates cited above.

Dated: November 24, 2008.
Robyn Shoop,
Supervisory, Land Law Examiner, Division of Natural Resources.

[FR Doc. E8-28550 Filed 12-1-08; 8:45 am]

BILLING CODE 4310-$$-P